FEDERAL COMMUNICATIONS COMMISSION

[Report No. 2703]

Petitions for Reconsideration and Clarification of Action in Rulemaking Proceedings

April 25, 2005.

Petitions for Reconsideration and Clarification have been filed in the Commission's Rulemaking proceedings listed in this Public Notice and published pursuant to 47 CFR 1.429(e). The full text of this document is available for viewing and copying in Room CY-B402, 445 12th Street, SW., Washington, DC or may be purchased from the Commission's copy contractor, Best Copy and Printing, Inc. (BCPI) (1-800-378-3160). Oppositions to these petitions must be filed by June 6, 2005. See section 1.4(b)(1) of the Commission's rules (47 CFR 1.4(b)(1)). Replies to an opposition must be filed within 10 days after the time for filing oppositions have expired.

Subject: Federal-State Joint Board on Universal Service (CC Docket No. 96-45).

Number of Petitions Filed: 1.

Subject: In the Matter of Presubscribed Interexchange Carrier Charges (CC Docket No. 02-53).

In the Matter of Unbundled Access to Network Elements (WC Docket No. 04-313).

Number of Petitions Filed: 3.

Subject: Review of the Section 251 Unbundling Obligations of Incumbent Local Exchange Carriers (CC Docket No. 01-338).

Number of Petitions Filed: 7.

Marlene H. Dortch,
Secretary.

[FR Doc. 05-9108 Filed 5-19-05; 8:45 am]

BILLING CODE 6712-01-M